DEPARTMENT OF HOMELAND SECURITY

U.S. Citizenship and Immigration Services

[CIS No. 2647-19; DHS Docket No. USCIS-2019-0009]

RIN 1615-ZB80

Continuation of Documentation for Beneficiaries of Temporary Protected Status Designations for Nepal and Honduras; Correction

AGENCY: U.S. Citizenship and Immigration Services (USCIS), DHS.

ACTION: Notice; correction.

SUMMARY: The Department of Homeland Security (DHS) makes a correction to the notice titled “Continuation of Documentation for Beneficiaries of Temporary Protected Status Designations for Nepal and Honduras” published in the Federal Register on May 10, 2019, at 84 FR 20647. The CIS No., the DHS Docket No., and the RIN in the notice are corrected as follows: the CIS No. is updated to read “CIS No. 2647-19”; the DHS Docket No. is updated to read “DHS Docket No. USCIS-2019-0009”; and the RIN is updated to read “RIN 1615-ZB80.”

FOR FURTHER INFORMATION CONTACT: Samantha Deshommes, Chief, Regulatory Coordination Division, Office of Policy and Strategy, U.S. Citizenship and Immigration Services, U.S. Department of Homeland Security, by mail at 20 Massachusetts Avenue NW, Washington, DC 20529-2060; or by phone at 800-375-5283.

SUPPLEMENTARY INFORMATION: In the Federal Register of May 10, 2019, at 84 FR 20647, on page 20647, in the second column, correct the CIS No. to read “CIS No. 2647-19”; correct the DHS Docket No. to read “DHS Docket No. USCIS-2019-0009”; and correct the RIN to read “RIN 1615-ZB80”.

Samantha Deshommes,
Chief, Regulatory Coordination Division, Office of Policy and Strategy, U.S. Citizenship and Immigration Services, U.S. Department of Homeland Security.

[FR Doc. 2019-10676 Filed 5-21-19; 8:45 am]

BILLING CODE 9111-97-P